DEPARTMENT OF JUSTICE

Federal Bureau of Investigation

[OMB Number 1110-0046]

Agency Information Collection Activities; Existing Collection—Reinstatement, Comments Requested: Friction Ridge Cards: Arrest and Institution; Applicant; Personal Identification; FBI Standard Palm Print; Supplemental Finger and Palm Print

ACTION: 60-day Notice.

The Department of Justice, Federal Bureau of Investigation (FBI), Criminal Justice Information Services (CJIS) Division will be submitting the following information collection renewal to the Office of Management and Budget (OMB) for review in accordance with established review procedures of the Paperwork Reduction Act of 1995. The information collection is published to obtain comments from the public and affected agencies. Comments are encouraged and will be accepted for “sixty days” until November 15, 2013. This process is conducted in accordance with 5 CFR 1320.10.

All comments, suggestions, or questions regarding additional information, to include obtaining a copy of the proposed information collection instrument with instructions, should be directed to Cynthia Johnston, Supervisory Management and Program Analyst, Federal Bureau of Investigation, Criminal Justice Information Services Division (CJIS), Biometric Services Section, Customer Support Unit, Module E-1, 1000 Custer Hollow Road, Clarksburg, West Virginia, 26306; or by facsimile to (304) 625-5392.

Written comments and suggestions from the public and affected agencies concerning the proposed collection of information are encouraged. Comments should address one or more of the following four points:

(1) Evaluate whether the proposed collection of information is necessary for the proper performance of the functions of the agency, including whether the information will have a practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of this information collection:

(1) Type of information collection: Reinstatement, with change, of a previously approved collection for which approval has expired. Reference: OMB control number of 1110-0046.

(2) The title of the form/collection: Friction Ridge Cards: Arrest and Institution; Applicant; Personal Identification; FBI Standard Palm Print; Supplemental Finger and Palm Print.

(3) The agency form number, if any, and the applicable component of the department sponsoring the collection: Forms FD-249 (Arrest and Institution), FD-258 (Applicant), FD-353 (Personal Identification); FD-884 (FBI Standard Palm Print); FD-884a (Supplemental Finger and Palm Print) encompassed under OMB 1110-0046; CJIS Division, FBI, Department of Justice.

(4) Affected public who will be asked or required to respond, as well as a brief abstract: Primary: City, county, state, federal and tribal law enforcement agencies; civil entities requesting security clearance and background checks. This collection is needed to collect information on individuals requesting background checks, security clearance, or those individuals who have been arrested for or accused of criminal activities. Acceptable data is stored as part of the Integrated Automated Fingerprint Identification System (IAFIS) of the FBI.

(5) An estimate of the total number of respondents and the amount of time estimated for an average respondent to respond: There are approximately 74,793 agencies as respondents at 10 minutes per friction ridge card completed.

(6) An estimate of the total public burden (in hours) associated with this collection:There are approximately 10.1 million annual burden hours associated with this collection.

If additional information is required contact: Jerri Murray, Department Clearance Officer, Justice Management Division, United States Department of Justice, Policy and Planning Staff, Two Constitution Square, 145 N Street NE., Room 1407B, Washington, DC 20530.

Dated: September 11, 2013.
Jerri Murray,
Department Clearance Officer for PRA, United States Department of Justice.

[FR Doc. 2013-22449 Filed 9-13-13; 8:45 am]

BILLING CODE 4410-02-P